DEPARTMENT OF TRANSPORTATION

Federal Highway Administration

Notice of Final Federal Agency Actions on Proposed Highway in California

AGENCY: Federal Highway Administration (FHWA), Department of Transportation (DOT).

ACTION: Notice of Limitation on Claims for Judicial Review of Actions by the California Department of Transportation (Caltrans).

SUMMARY: The FHWA, on behalf of Caltrans, is issuing this notice to announce actions taken by Caltrans that are final. The actions relate to a proposed highway project on State Route 99 at Caldwell Avenue in Tulare County, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before April 25, 2024. If the Federal law that authorizes judicial review of a claim provides a time period of less than 150 days for filing such claim, then that shorter time period still applies.

FOR FURTHER INFORMATION CONTACT: For Caltrans: Trais Norris, Senior Environmental Planner, Caltrans, 2015 E. Shields Avenue, Fresno, CA 93720, (559) 320-6045 or trais.norris@dot.ca.gov.

SUPPLEMENTARY INFORMATION: Effective July 1, 2007, the Federal Highway Administration (FHWA) assigned, and the California Department of Transportation (Caltrans) assumed, environmental responsibilities for this project pursuant to 23 U.S.C. 327. Notice is hereby given that Caltrans has taken final agency actions subject to 23 U.S.C. 139(l)(1) by issuing licenses, permits, and approvals for the following highway project in the State of California: Construct two roundabouts at the southbound ramp and northbound ramp intersections. The profile of the existing Avenue 280 overcrossing structure would be raised, and the Mid-Valley overhead structure would also be replaced. Caldwell Avenue would be widened to a 4-lane configuration at the vicinity of the roundabouts. The actions by the Federal agencies, and the laws under which such actions were taken, are described in the Environmental Assessment for the project, approved on June 14, 2019, in the Finding of No Significant Impact (FONSI) issued on June 14, 2019, and in other documents in the project records. The EA, FONSI and other project records are available by contacting Caltrans at the address provided above. The Caltrans EA and FONSI can be viewed and downloaded from the project website at https://dot.ca.gov/caltrans-near-me/district-6/district-6-projects/d6-sr099-caldwell-interchange, or viewed at Caltrans, 2015 Shield Avenue, Fresno, CA, 93726.

This notice applies to all Federal agency decisions as of the issuance date of this notice and all laws under which such actions were taken, including but not limited to:

1. National Environmental Policy Act of 1969

2. Clean Air Act, 42 U.S.C. 7401-7671

3. Endangered Species Act of 1973 (ESA), 16 U.S.C. 1531-1544

4. National Historic Preservation Act of 1966 (NHPA)

5. Clean Water Act, 33 U.S.C. 1251-1387 (Sections 319, 401, and 404)

(Catalog of Federal Domestic Assistance Program Number 20.205, Highway Planning and Construction. The regulations implementing Executive Order 12372 regarding intergovernmental consultation on Federal programs and activities apply to this program.)

(Authority: 23 U.S.C. 139(l)(1))

Antonio Johnson,
Director of Planning, Environmental and Right of Way, Federal Highway Administration, California Division.

[FR Doc. 2023-26023 Filed 11-24-23; 8:45 am]

BILLING CODE 4910-RY-P